DEPARTMENT OF TRANSPORTATION

Maritime Administration (MARAD)

Reports, Forms and Recordkeeping Requirements Agency Information Collection Activity Under OMB Review

AGENCY: Maritime Administration, DOT.

ACTION: Notice and request for comments.

SUMMARY: In compliance with the Paperwork Reduction Act of 1995 (44 U.S.C. 3501 et seq.), this notice announces that the information collection abstracted below has been forwarded to the Office of Management and Budget (OMB) for review and comment. Described below is the nature of the information collection and its expected burden. The Federal Register notice with a 60-day comment period soliciting comments on the following collection was published on January 20, 2000 [65 FR 3266].

DATES: Comments must be submitted on or before May 1, 2000.

FOR FURTHER INFORMATION CONTACT: Melvin Geller, Office of National Security Plans, Maritime Administration, 400 Seventh Street, SW, Room P1-1303, Washington, DC 20590, telephone number 202-366-5910. Copies of this collection can also be obtained from that office.

SUPPLEMENTARY INFORMATION:

Maritime Administration

Title of Collection: “EUSC/Parent Company”.

OMB Control Number: 2133-0511.

Type oc Request: Approval of an existing information collection.

Affected Public: Foreign register American vessel owners.

Form(s): None.

Abstract: The collection of information consists of an inventory of foreign register vessels owned by Americans. Specifically, the collection consists of responses from vessel owners verifying or correcting vessel ownership data and characteristics found in commercial publications. The information obtained could be vital in a national or international emergency, and is essential to the logistical support planning operations conducted by MARAD officials. The information obtained will be used for contingency planning for sealift requirements primarily as a source of ships to move essential oil and bulk cargoes in support of the national economy.

Annual Estimated Burden Hours: 46 hours.

Addressee

Send comments to the Office of Information and Regulatory Affairs, Office of Management and Budget, 725-17th Street, NW, Washington, DC 20503, Attention MARAD Desk Officer.

Comments Are Invited on

Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is best assured of having its full effect if OMB receives it within 30 days of publication.

Dated: March 27, 2000.
Joel C. Richard,
Secretary, Maritime Administration.

[FR Doc. 00-7911 Filed 3-29-00; 8:45 am]

BILLING CODE 4910-81-P